DEPARTMENT OF AGRICULTURE

Animal and Plant Health Inspection Service

[Docket No. APHIS-2020-0124]

Notice of Request for Revision to and Extension of Approval of an Information Collection; Gypsy Moth Identification Worksheet and Checklist

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the gypsy moth program.

DATES: We will consider all comments that we receive on or before April 13, 2021.

ADDRESSES: You may submit comments by either of the following methods:

• Federal eRulemaking Portal: Go to http://www.regulations.gov/#!docketDetail;D=APHIS-2020-0124.

• Postal Mail/Commercial Delivery: Send your comment to Docket No. APHIS-2020-0124, Regulatory Analysis and Development, PPD, APHIS, Station 3A-03.8, 4700 River Road, Unit 118, Riverdale, MD 20737-1238.

Supporting documents and any comments we receive on this docket may be viewed at http://www.regulations.gov/#!docketDetail;D=APHIS-2020-0124 or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the gypsy moth program, contact Ms. Kathryn Bronsky, Policy Manager, National Plant Health Programs, PHP, PPQ, APHIS, 4700 River Road, Unit 137, Riverdale, MD 20737; (301) 851-2147. For more information on the information collection process, contact Mr. Joseph Moxey, APHIS' Information Collection Coordinator, at (301) 851-2483.

SUPPLEMENTARY INFORMATION: Title: Gypsy Moth Identification Worksheet and Checklist.

OMB Control Number: 0579-0104.

Type of Request: Revision to and extension of approval of an information collection.

Abstract: Under the Plant Protection Act (7 U.S.C. 7701 et seq.), the U.S. Department of Agriculture (USDA), either independently or in cooperation with the States, is authorized to carry out operations or measures to detect, eradicate, suppress, control, prevent, or retard the spread of plant pests new to the United States or not widely distributed throughout the United States. The USDA's Animal and Plant Health Inspection Service (APHIS) is the delegated authority to carry out this mission.

As part of the mission, APHIS' Plant Protection and Quarantine (PPQ) program engages in detection surveys to monitor for the presence of, among other things, the European gypsy moth and the Asian gypsy moth. The European gypsy moth is one of the most destructive pests of fruit and ornamental trees as well as hardwood forests. First introduced into the United States in Medford, MA, in 1869, the European gypsy moth has gradually spread to infest the entire northeastern portion of the country. The gypsy moth regulations can be found in 7 CFR 301.45 through 301.45-12.

Heavily infested European gypsy moth areas are inundated with actively crawling larvae that cover trees, fences, vehicles, and houses during their search for food. Entire areas may be stripped of all foliage, often resulting in heavy damage to trees. The damage can have long-lasting effects, depriving wildlife of food and shelter, and severely limiting the recreational value of forested areas.

The Asian gypsy moth is an exotic strain of gypsy moth that is closely related to the European variety already established in the United States. While the Asian gypsy moth has been introduced into the United States on several occasions, it is currently not established in the United States. However, due to behavioral differences, the Asian gypsy moth is considered to pose an even greater threat to trees and forested areas than the European gypsy moth.

Unlike the flightless European gypsy moth female adult, the Asian gypsy moth female adult is capable of strong directed flight between mating and egg deposition, significantly increasing its ability to spread over a much greater area and become widely established within a short time. In addition, Asian gypsy moth larvae feed on a much wider variety of hosts, allowing them to exploit more areas and cause more damage than the European gypsy moth.

To determine the presence and extent of a European gypsy moth or an Asian gypsy moth infestation, APHIS sets traps in high-risk areas to collect specimens. Once an infestation is identified, control and eradication work (usually involving State cooperation) is initiated to eliminate the moths.

APHIS personnel, with assistance from State/local agriculture personnel, check traps for the presence of gypsy moths. If a suspicious moth is found in the trap, it is sent to APHIS laboratories so that it can be correctly identified through DNA analysis. DNA analysis is the only way to accurately identify these insects because the European gypsy moth and the Asian gypsy moth are strains of the same species, and they cannot be visually distinguished from each other.

The PPQ official or State/local collaborator submitting the moth for analysis must complete a specimen for determination worksheet, which accompanies the insect to the laboratory. The worksheet enables Federal and State/local regulatory officials to identify and track specific specimens through the DNA identification tests that are conducted. In addition, the information provided by the gypsy moth identification worksheets is vital to APHIS' ability to monitor, detect, and eradicate gypsy moth infestations.

The gypsy moth regulations (§ 301.45-4(a)) also require the inspection of outdoor household articles that are to be moved from a gypsy moth quarantined area to a non-quarantined area to ensure that they are free of all life stages of gypsy moth. Individuals may use a self-inspection checklist, which is completed and signed by the person who performed the inspection, and kept in the vehicle used to move the outdoor household articles in the event that USDA or State/Local officials request it during the movement of the articles. In addition, it is recommended that individuals maintain a copy of the signed checklist for at least 5 years.

We are asking the Office of Management and Budget (OMB) to approve these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.362 hours per response.

Respondents: Individuals who complete the self-inspection checklist and State and local cooperators.

Estimated annual number of respondents: 2,500,100.

Estimated annual number of responses per respondent: 3.

Estimated annual number of responses: 7,500,250.

Estimated total annual burden on respondents: 2,711,543 hours. (Due to averaging, the total annual burden hours may not equal the product of the annual number of responses multiplied by the reporting burden per response.)

All responses to this notice will be summarized and included in the request for OMB approval. All comments will also become a matter of public record.

Done in Washington, DC, this 8th day of February 2021.
Mark Davidson,
Administrator, Animal and Plant Health Inspection Service.

[FR Doc. 2021-02905 Filed 2-11-21; 8:45 am]

BILLING CODE 3410-34-P